DEPARTMENT OF ENERGY

Federal Energy Regulatory Commission

Combined Notice of Filings #2

Take notice that the Commission received the following electric rate filings:

Docket Numbers: ER10-1569-007; ER12-21-012; ER11-2855-012; ER10-1564-008; ER10-1565-008; ER11-3727-008; ER10-1566-008; ER11-2062-008; ER10-1291-009; ER11-2508-007; ER11-4307-008; ER12-1711-008; ER12-261-007; ER13-1136-006; ER10-1568-008; ER10-1581-010; ER10-2888-008; ER13-1803-004; ER13-1790-004; ER13-1746-005; ER10-2914-008; ER12-1525-008; ER12-2019-007; ER10-1582-007; ER12-2398-007; ER11-3459-007; ER11-4308-008; ER11-2805-007; ER10-1580-010; ER11-2856-012; ER13-2107-003; ER13-2020-003; ER13-2050-003; ER11-2857-012.

Applicants: NRG Power Marketing LLC, Agua Caliente Solar, LLC, Avenal Park LLC, Cabrillo Power I LLC, Cabrillo Power II LLC, El Segundo Energy Center LLC, El Segundo Power, LLC, Energy Plus Holdings LLC, GenConn Energy LLC, GenOn Energy Management, LLC, Green Mountain Energy Company, High Plains Ranch II, LLC, Independence Energy Group LLC, Ivanpah Master Holdings, LLC, Long Beach Generation LLC, Long Beach Peakers LLC, Norwalk Power LLC, NRG California South LP, NRG Delta LLC, NRG Marsh Landing LLC, NRG New Jersey Energy Sales LLC, NRG Solar Alpine LLC, NRG Solar Avra Valley LLC, NRG Solar Blythe LLC, NRG Solar Borrego I LLC, NRG Solar Roadrunner LLC, Reliant Energy Northeast LLC, RRI Energy Services, LLC, Saguaro Power Company, A Limited Partnership, Sand Drag LLC, Solar Partners I, LLC, Solar Partners II, LLC, Solar Partners VIII, LLC, Sun City Project LLC.

Description: Notice of Non-Material Change in Status of the NRG MBR Entities.

Filed Date: 12/31/13.

Accession Number: 20131231-5294.

Comments Due: 5 p.m. ET 1/21/14.

Docket Numbers: ER10-2475-006; ER10-2474-006; ER10-3246-003; ER12-21-013; ER13-520-002; ER13-521-002; ER13-1441-002; ER13-1442-002; ER12-1626-003; ER13-1266-003; ER13-1267-002; ER13-1268-002; ER13-1269-002; ER13-1270-002; ER13-1271-002; ER13-1272-002; ER13-1273-002; ER10-2605-006.

Applicants: Nevada Power Company, Sierra Pacific Power Company, PacifiCorp, Agua Caliente Solar, LLC, Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Yuma Cogeneration Associates.

Description: Notification of change of the MidAmerican MBR Sellers.

Filed Date: 1/2/14.

Accession Number: 20140102-5154.

Comments Due: 5 p.m. ET 1/23/14.

Docket Numbers: ER10-2585-003; ER10-2618-003; ER10-2619-003; ER10-2616-005; ER11-4398-002; ER10-2587-002; ER10-2590-002; ER10-2593-002; ER11-4400-002; ER10-3247-007; ER14-922-001; ER14-833-001; ER14-924-001; ER10-2617-003; ER10-2613-003.

Applicants: Casco Bay Energy Company, LLC, Dynegy Danskammer, L.L.C., Dynegy Kendall Energy, LLC, Dynegy Marketing and Trade, LLC, Dynegy Midwest Generation, LLC, Dynegy Morro Bay, LLC, Dynegy Moss Landing, LLC, Dynegy Oakland, LLC, Dynegy Power Marketing, LLC, Electric Energy Inc., Illinois Power Generating Company, Illinois Power Marketing Company, Illinois Power Resources Generating, LLC, Ontelaunee Power Operating Co., LLC, Sithe/Independence Power Partners, L.P.

Description: Notice of Change in Status of the Dynegy Inc. MBR subsidiaries.

Filed Date: 1/2/14.

Accession Number: 20140102-5150.

Comments Due: 5 p.m. ET 1/23/14.

Docket Numbers: ER12-2068-005; ER10-2460-006; ER10-2461-006; ER12-682-007; ER10-2463-006; ER11-2201-010; ER10-2464-003; ER13-1585-003; ER13-17-004; ER12-1311-006; ER10-2466-007; ER11-4029-006.

Applicants: Blue Sky East, LLC, Canandaigua Power Partners, LLC, Canandaigua Power Partners II, LLC, Erie Wind, LLC, Evergreen Wind Power, LLC, Evergreen Wind Power III, LLC, First Wind Energy Marketing, LLC, Longfellow Wind, LLC, Niagara Wind Power, LLC, Stetson Holdings, LLC, Stetson Wind II, LLC, Vermont Wind, LLC.

Description: Market Power Update for the Northeast Region and Notice of Change in Status of Blue Sky East, LLC, et. al.

Filed Date: 12/31/13.

Accession Number: 20131231-5291.

Comments Due: 5 p.m. ET 1/21/14.

Docket Numbers: ER14-934-000.

Applicants: Solar Partners VIII, LLC.

Description: Solar VIII Tariff Amendment to be effective 1/1/2014.

Filed Date: 1/2/14.

Accession Number: 20140102-5000.

Comments Due: 5 p.m. ET 1/23/14.

Docket Numbers: ER14-935-000.

Applicants: NRG Solar Blythe LLC.

Description: Solar Blythe Tariff Amendment to be effective 1/1/2014.

Filed Date: 1/2/14.

Accession Number: 20140102-5049.

Comments Due: 5 p.m. ET 1/23/14.

Docket Numbers: ER14-942-000.

Applicants: MidAmerican Energy Company.

Description: Market-Based Rate Tariff—3rd Rev—Order 784 Compliance to be effective 1/3/2014.

Filed Date: 1/2/14.

Accession Number: 20140102-5061.

Comments Due: 5 p.m. ET 1/23/14.

Docket Numbers: ER14-943-000.

Applicants: Nevada Power Company.

Description: Notice of cancellation of RPPA Electric Rate Schedule No. 110 of Nevada Power Company.

Filed Date: 12/31/13.

Accession Number: 20131231-5293.

Comments Due: 5 p.m. ET 1/21/14.

Docket Numbers: ER14-944-000.

Applicants: Public Service Company of New Mexico.

Description: Notice of cancellation of four obsolete Electric Rate Schedules No. 49, 80, 93 and 94 of Public Service Company of New Mexico.

Filed Date: 1/2/14.

Accession Number: 20140102-5135.

Comments Due: 5 p.m. ET 1/23/14.

Docket Numbers: ER14-945-000.

Applicants: PacifiCorp.

Description: PacifiCorp submits tariff filing per 35: Market Based Power Sales Tariff—Order No. 784 Compliance Filing to be effective 1/3/2014.

Filed Date: 1/2/14.

Accession Number: 20140102-5142.

Comments Due: 5 p.m. ET 1/23/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2014.
Nathaniel J. Davis, Sr.,
Deputy Secretary.

[FR Doc. 2014-00432 Filed 1-13-14; 8:45 am]

BILLING CODE 6717-01-P